DEPARTMENT OF COMMERCE

National Oceanic and Atmospheric Administration

50 CFR Part 600

[I.D. 022403D]

Magnuson-Stevens Act Provisions; General Provisions for Domestic Fisheries; Application for Exempted Fishing Permits (EFPs)

AGENCY: Department of Commerce, National Oceanic and Atmospheric Administration (NOAA), National Marine Fisheries Service (NMFS)

ACTION: Notification of a proposal for EFPs to conduct experimental fishing; request for comments.

SUMMARY: The Administrator, Northeast Region, NMFS (Regional Administrator) has made a preliminary determination that the subject EFP application contains all the required information and warrants further consideration. The Regional Administrator has also made a preliminary determination that the activities authorized under the EFPs would be consistent with the goals and objectives of the Northeast (NE) Multispecies Fishery Management Plan (FMP). However, further review and consultation may be necessary before a final determination is made to issue EFPs. Therefore, NMFS announces that the Regional Administrator proposes to issue EFPs that would allow four vessels to conduct fishing operations that are otherwise restricted by the regulations governing the fisheries of the Northeastern United States. The EFPs would exempt these vessels from minimum mesh size requirements of the Gulf of Maine (GOM) and Georges Bank (GB) Regulated Mesh Areas (RMAs) and from the seasonal GOM Rolling Closure Areas II and III. The proposed experiment would test a separator panel designed to separate haddock from cod in the GOM and GB RMAs. All experimental work would be monitored by Manomet Center for Conservation Sciences (Manomet) personnel. Regulations under the Magnuson-Stevens Fishery Conservation and Management Act require publication of this notification to provide interested parties the opportunity to comment on applications for proposed EFPs.

DATES: Comments must be received at the appropriate address or fax number (see ADDRESSES) on or before March 27, 2003.

ADDRESSES: Written comments should be sent to Patricia A. Kurkul, Regional Administrator, NMFS, NE Regional Office, 1 Blackburn Drive, Gloucester, MA 01930. Mark the outside of the envelope “Comments on Manomet Separator Trawl EFP Proposal.” Comments may also be sent via fax to (978) 281-9135. Comments will not be accepted if submitted via e-mail or the Internet.

FOR FURTHER INFORMATION CONTACT: Heather Sagar, Fisheries Management Specialist, 978-281-9104.

SUPPLEMENTARY INFORMATION: An initial application from Manomet was received on December 6, 2002, and the application was completed on January 31, 2003. The proposed study would test a modified trawl net with a separator panel, designed to separate haddock from cod. The modified net would be built with a 4-inch mesh horizontal separator panel dividing the trawl codend into an upper and lower codend. Both codends would be constructed with legal minimum mesh size and the net would be fully compliant with current regulations except for the insertion of a small mesh separator panel. The study would involve four phases. The first phase would consist of development and construction of a separator trawl net. Phase two would involve a series of sea trials conducted with an underwater video camera to ensure that the trawl and separator panel are fishing properly. Trials would take place in shallow water to ensure high quality video imaging. This process would take up to 2 days. Phase three would be the experimental sea trials. Four commercial vessels would fish 5 days each, making approximately five tows per day for a total of 100 tows for this portion of the study. Tow length would be approximately 30 minutes and experimental tows would mimic normal fishing practices. This would result in a total of 22 sea days for the entire study (including 2 days for preliminary sea trials). Participating vessels would be required to notify NMFS prior to commencing an experimental fishing trip. The final phase of the experiment would be data analysis and reporting, including a video analysis.

The proposed study area would take place off the coast of Cape Cod, MA, inside the area defined by the following coordinates: 42°15' N. lat., 70°15' W. long.; 42°15' N. lat., 69°30' W. long.; 42°00' N. lat., 69°30' W. long.; 42°00' N. lat., 68°30' W. long.; 41°30' N. lat., 68°30' W. long.; 41°30' N. lat. 70°00' W. long. following the Cape Cod shoreline north to 42°00' N. lat., 70°00' W. long.; 42°00' N. lat., 70°15' W. long.; and 42°15' N. lat., 70°15' W. long. Areas subjected to permanent closures would be avoided. The EFPs would allow for exemptions from the GOM and GB RMA minimum mesh size requirements specified at 50 CFR 648.80(a)(1) and (a)(2), and seasonal GOM Rolling Closure Areas II and III specified at 50 CFR 648.81(g).

Under this experiment, target species would be cod, haddock, yellowtail flounder, American plaice, witch flounder, pollock, and windowpane flounder. Incidental species would include skate, smooth dogfish, spiny dogfish, sculpins, sea raven and sea robin. All biological and environmental information would be recorded by trained observers (supplied by Manomet) on relevant NMFS observer logbooks. Each participating vessel would have an observer on board. All catch would be sorted and weighed on board the vessel. In addition, all commercially important species would be measured. Species that do not meet minimum size requirements would be returned to the sea immediately following scientific processing. Experimental fishing operations would take place from approximately April 1 through September 30, 2003. A final report containing the results of the study would be provided to NMFS no later than 6 months following completion of the study.

A portion of the experimental fishing area proposed in this EFP is in the GOM RMA. However, the majority of the experiment area is on GB, and all vessels participating in the proposed experimental fishery would be required to abide by existing trip limits for GB cod and haddock for the duration of this experiment. Current regulations restrict vessels fishing on GB to landing no more than 2,000 lb (907.2 kg) of cod per days-at-sea (DAS), up to a maximum of 20,000 lb (9,071.8 kg) per trip. Because each vessel is expected to utilize 5 sea days, these vessels would be limited to landing a maximum of 2,000 -10,000 lb (907.2 - 4,536 kg) of cod per trip. Vessels would also be restricted to landing no more then 30,000 lb (13,608 kg) of haddock per trip from May through September, and 50,000 lb (22,680 kg) of haddock per trip, from October through April. In addition, vessels would be subject to the haddock trip limit, by day or by trip, as required by the regulations, should a daily haddock trip limit or overall trip limit be in effect for the commercial fishery (i.e., at the start of the May 1, 2003, fishing year, and if a daily limit is imposed prior to the end of the fishing year in order to prevent the haddock TAC from being exceeded).

EFPs would be issued to four vessels, exempting them from the specific minimum mesh size requirements restrictions and seasonal GOM Rolling Closure Area II and III of the FMP.

Based on the results of the EFP, this action may lead to future rulemaking.

Authority: 16 U.S.C. 1801 et seq.

Dated: March 6, 2003.
Richard W. Surdi,
Acting Director, Office of Sustainable Fisheries, National Marine Fisheries Service.

[FR Doc. 03-5903 Filed 3-11-03; 8:45 am]

BILLING CODE 3510-22-S